DEPARTMENT OF THE INTERIOR

National Park Service

[NPS-NERO-CEBE-24090; PPNECEBE00, PPMPSAS1Z.Y00000]

Cancellation of September 21, 2017, Meeting of the Cedar Creek and Belle Grove National Historical Park Advisory Commission

AGENCY: National Park Service, Interior.

ACTION: Cancellation of meeting.

SUMMARY: In accordance with the Federal Advisory Committee Act, notice is hereby given that the September 21, 2017, meeting of the Cedar Creek and Belle Grove National Historical Park Advisory Commission previously announced in the Federal Register, Vol. 82, January 19, 2017, pp. 6643, is cancelled.

FOR FURTHER INFORMATION CONTACT: Further information concerning the meetings may be obtained from Karen Beck-Herzog, Site Manager, Cedar Creek and Belle Grove National Historical Park, P.O. Box 700, Middletown, Virginia 22645, telephone (540) 868-9176, or visit the park Web site: http://www.nps.gov/cebe/parkmgmt/park-advisory-commission.htm.

SUPPLEMENTARY INFORMATION: The 15-member Commission was designated by Congress to provide advice to the Secretary of the Interior in the preparation and implementation of the park's general management plan and in the identification of sites of significance outside the park boundary (16 U.S.C. 410iii-7).

Alma Ripps,
Chief, Office of Policy.

[FR Doc. 2017-22378 Filed 10-16-17; 8:45 am]

BILLING CODE 4312-52-P